DEPARTMENT OF COMMERCE

National Oceanic and Atmospheric Administration

[I.D. 052606A]

Draft Conservation Plan for the Pribilof Islands Northern Fur Seal

AGENCY: National Marine Fisheries Service (NMFS), National Oceanic and Atmospheric Administration (NOAA), Commerce.

ACTION: Notice of availability; request for comments.

SUMMARY: In accordance with the Marine Mammal Protection Act (MMPA), NMFS has revised its conservation plan for northern fur seals (Callorhinus ursinus). The goal of the draft plan is to promote the recovery of northern fur seals to their optimum sustainable population levels. NMFS solicits public comments on this draft conservation plan.

DATES: Comments and information must be received by August 4, 2006.

ADDRESSES: The draft conservation plan is available on the Internet at the following address: http://www.fakr.noaa.gov/protectedresources/seals/fur.htm. Alternatively, copies of the draft conservation plan may be reviewed and/or copied at the NMFS, Protected Resources Division, 222 W. 7th Ave., #43, Anchorage, AK, 99513; or at the Alaska Regional Office, Protected Resources Division, 709 W. 9th St., P.O. Box 21668, Juneau, AK 99802. Comments on the draft conservation plan should be sent to the above addresses. Comments also may be submitted via e-mail to NFSCPcomments@noaa.gov or via fax to (907) 586-7557.

FOR FURTHER INFORMATION CONTACT: Michael Williams, NOAA/NMFS, Alaska Region, Anchorage Field Office, (907) 271 5006, or Kaja Brix, NOAA/NMFS, Alaska Region, (907) 586 7235.

SUPPLEMENTARY INFORMATION: The MMPA requires NMFS to prepare a conservation plan to promote the conservation and recovery of any species or stock designated as depleted. On June 17, 1988, the National Marine Fisheries Service (NMFS) designated the Pribilof Islands, Alaska (St. Paul and St. George Islands), population of northern fur seals depleted under the MMPA. NMFS originally published a conservation plan for northern fur seals in June 1993. The original plan identified 7 major areas of monitoring and research and recommended conservation actions coordinated among the agencies and entities with activities in the area. In the 13 years since the plan was completed, population numbers have changed and additional action items have been recommended or implemented.

The Pribilof Islands population has declined since the depleted listing. Between 1998 and 2004 estimated pup production declined at 6.2 percent per year on St. Paul Island and at 4.5 percent per year on St. George Island. The 2004 estimate of pup production on St. Paul Island is comparable with the level observed in 1921, while on St. George it is below the level observed in 1916. Recent satellite telemetry studies estimate lactating female and juvenile male northern fur seals foraging areas in the Bering Sea. These studies also suggest separation of Bering Sea foraging areas based on the Pribilof breeding area of departure. A preliminary population estimate of 721,935 has been calculated for 2005 (Angliss in prep).

The conservation plan is an update of the plan prepared in 1993 and delineates reasonable actions necessary to promote recovery of the depleted Eastern Pacific stock of northern fur seals. NMFS developed and presents a conservation strategy in the conservation plan to guide Federal and other actions towards the goal of recovering this stock of northern fur seals. The objectives of the conservation strategy are:

(1) Identify and eliminate or mitigate the cause or causes of human related mortality of the Eastern Pacific stock of northern fur seals;

(2) Assess and avoid or mitigate adverse effects of human related activities on or near the Pribilof Islands and other habitat essential to the survival and recovery of the Eastern Pacific stock of northern fur seals;

(3) Continue and, as necessary, expand research or management programs to monitor trends and detect natural or human-related causes of change in the northern fur seal population and habitats essential to its survival and recovery; and

(4) Coordinate and assess the implementation of the conservation plan, based on implementation of conservation actions and completion of high priority studies.

Conservation actions and study recommendations are included for each factor that may be affecting northern fur seals. The goal of this conservation plan will be met when the Eastern Pacific northern fur seal stock is at an abundance level that justifies their redesignation as a non-depleted stock. NMFS solicits public comments on this draft revision of the conservation plan for northern fur seals.

Dated: May 30, 2006.
P. Michael Payne,
Acting Deputy Director, Office of Protected Resources, National Marine Fisheries Service.

[FR Doc. E6-8675 Filed 6-2-06; 8:45 am]

BILLING CODE 3510-22-S